DEPARTMENT OF TRANSPORTATION

Federal Highway Administration

[Docket No. FHWA-2016-0015]

Emergency Route Working Group—Notice of Public Meetings

AGENCY: Federal Highway Administration (FHWA); DOT.

ACTION: Notice of public meetings.

SUMMARY: This notice announces three meetings of the Emergency Route Working Group (ERWG). The Federal Advisory Committee Act requires that notice of these meetings be published in the Federal Register.

DATES: Three public meetings will be held on:

• Monday, January 9, 2017, from 8:30 a.m. to 4:00 p.m., e.t.

• Thursday, February 16, 2017, from 8:30 a.m. to 4:00 p.m., e.t.

• Thursday, March 16, 2017, from 8:30 a.m. to 4:00 p.m., e.t.

ADDRESSES: All three public meetings will be held at the U.S. Department of Transportation, 1200 New Jersey Ave., Conference Center, Washington, DC 20590.

Due to the limited amount of parking around DOT Headquarters, use of public transit is strongly advised. DOT is served by the Navy Yard Metrorail Station (Green line). The closest exit to DOT Headquarters is the Navy Yard exit. Train and bus schedules are available at Metrorail's Web site at: http://www.wmata.com/rider_tools/tripplanner/tripplanner_form_solo.cfm.

FOR FURTHER INFORMATION CONTACT: Crystal Jones, FHWA Office of Freight Management and Operations, (202) 366-2976, or via email at Crystal.Jones@dot.gov or erwg@dot.gov. For legal questions, contact Seetha Srinivasan, FHWA Office of the Chief Counsel, (202) 366-4099 or via email at Seetha.Srinivasan@dot.gov. Office hours for FHWA are from 8:00 a.m. to 4:30 p.m., e.t., Monday through Friday, except Federal holidays.

SUPPLEMENTARY INFORMATION:

Electronic Access

An electronic copy of this notice may be downloaded from the from the Federal Register's home page at: http://www.archives.gov; the Government Publishing Office's database at: https://www.gpo.gov/fdsys/; or the specific docket page at: www.regulations.gov.

Background

Purpose of the Committee: The ERWG was established pursuant to section 5502 of the Fixing America's Surface Transportation (FAST) Act (Pub. L. 114-94). Section 5502 of the (FAST) Act requires the DOT to establish an emergency route working group to determine best practices for expeditious State approval of special permits for vehicles involved in emergency response and recovery. Pursuant to the Federal Advisory Committee Act (FACA), the FHWA's Office of Freight Management and Operations is announcing three public meetings of the Emergency Route Working Group (ERWG) on the following dates:

• Monday, January 9, 2017, from 8:30 a.m. to 4:00 p.m., e.t.

• Thursday, February 16, 2017, from 8:30 a.m. to 4:00 p.m., e.t.

• Thursday, March 16, 2017, from 8:30 a.m. to 4:00 p.m., e.t.

These meetings are being conducted to develop recommendations for the DOT Secretary on issues and associated best practices to encourage expeditious State approval of special permits for vehicles involved in emergency response and recovery.

Tentative Agenda: The agenda will include a welcome and introduction by the Designated Federal Officer and Committee Chair, a review of literature related to special permits and emergency response and recovery, and a topical discussion on considerations for best practices; including whether:

(1) Impediments currently exist that prevent expeditious State approval of special permits for vehicles involved in emergency response and recovery;

(2) it is possible to pre-identify and establish emergency routes between States through which infrastructure repair materials could be delivered following a natural disaster or emergency;

(3) a State could pre-designate an emergency route identified under paragraph (2) as a certified emergency route if a motor vehicle that exceeds the otherwise applicable Federal and State truck size and weight limits may safely operate along such route during periods of declared emergency and recovery from such periods; and

(4) an online map could be created to identify each pre-designated emergency route under paragraph (3), including information on specific vehicle limitations, obligations, and notification requirements along that route.

Public Participation: All three meetings are open to the public. The Designated Federal Officer and the Chair of the Committee will conduct the meeting to facilitate the orderly conduct of business. If you would like to file a written statement with the Committee, you may do so either before or after the meeting by submitting an electronic copy of that statement to erwg@dot.gov or the specific docket page at: www.regulations.gov. If you would like to make oral statements regarding any of the items on the agenda, you should contact Crystal Jones at the phone number listed above or email your request to erwg@dot.gov. You must make your request for an oral statement at least 5 business days prior to the meeting. Reasonable provisions will be made to include any such presentation on the agenda. Public comment will be limited to 3 minutes per speaker, per topic.

Minutes: An electronic copy of the minutes from these meetings will be available for download within 60 days of each meeting at: http://ops.fhwa.dot.gov/fastact/erwg/index.htm.

Authority: Section 5502 of Public Law 114-94; 5 U.S.C. Appendix 2; 41 CFR 102-3.65; 49 CFR 1.85.

Dated: December 21, 2016.
Gregory G. Nadeau,
Administrator, Federal Highway Administration.

[FR Doc. 2016-31243 Filed 12-23-16; 8:45 am]

BILLING CODE 4910-22-P